DEPARTMENT OF TRANSPORTATION

Federal Aviation Administration

14 CFR Part 97

[Docket No. 30633; Amdt. No 3292]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 10, 2008. The compliance date for each SIAP, associated Takeoff Minimums, and ODP is specified in the amendatory provisions.

The incorporation by reference of certain publications listed in the regulations is approved by the Director of the Federal Register as of November 10, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on October 17, 2008.
James J. Ballough,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 NOV 2008

Gunnison, CO, Gunnison-Crested Butte Regional, ILS OR LOC/DME RWY 6, Amdt 4

Washington, DC, Washington Dulles Intl, CONVERGING ILS RWY 12, Amdt 6

Washington, DC, Washington Dulles Intl, CONVERGING ILS RWY 19C, Amdt 8

Washington, DC, Washington Dulles Intl, CONVERGING ILS RWY 19L, Amdt 8

Washington, DC, Washington Dulles Intl, CONVERGING ILS RWY 19R, Orig

Washington, DC, Washington Dulles Intl, ILS OR LOC RWY 1R; ILS RWY 1R 9CAT II); ILS RWY 1R (CAT III) Amdt 24

Washington, DC, Washington Dulles Intl, ILS OR LOC RWY 19L, Amdt 14

Washington, DC, Washington Dulles Intl, ILS OR LOC/DME RWY 1C, Amdt 1

Washington, DC, Washington Dulles Intl, ILS OR LOC/DME RWY 1L, Orig

Washington, DC, Washington Dulles Intl, ILS OR LOC/DME RWY 12, Amdt 9

Washington, DC, Washington Dulles Intl, ILS OR LOC/DME RWY 19C; ILS RWY 19C (CAT II); ILS RWY 19C (CAT III), Amdt 25

Washington, DC, Washington Dulles Intl, ILS OR LOC/DME RWY 19R, Orig

Washington, DC, Washington Dulles Intl, RNAV (GPS) RWY 1L, Orig

Washington, DC, Washington Dulles Intl, RNAV (GPS) RWY 12, Amdt 1

Washington, DC, Washington Dulles Intl, RNAV (GPS) RWY 19R, Orig

Washington, DC, Washington Dulles Intl, RNAV (GPS) Y RWY 1C, Amdt 1

Washington, DC, Washington Dulles Intl, RNAV (GPS) Y RWY 1R, Amdt 1

Washington, DC, Washington Dulles Intl, RNAV (GPS) Y RWY 12, Orig, CANCELLED

Washington, DC, Washington Dulles Intl, RNAV (GPS) Y RWY 19C, Amdt 3

Washington, DC, Washington Dulles Intl, RNAV (GPS) Y RWY 19L, Amdt 2

Washington, DC, Washington Dulles Intl, Takeoff Minimums and Obstacle DP, Amdt 1

Lake Wales, FL, Lake Wales Municipal, Takeoff Minimums and Obstacle DP, Orig

West Palm Beach, FL, Palm Beach Intl, Takeoff Minimums and Obstacle DP, Amdt 2

Athens, GA, Athens/Ben Epps, ILS OR LOC/DME RWY 27, Amdt 1

Athens, GA, Athens/Ben Epps, NDB RWY 27, Amdt 1

Athens, GA, Athens/Ben Epps, RNAV (GPS) RWY 2, Orig

Athens, GA, Athens/Ben Epps, RNAV (GPS) RWY 9, Orig

Athens, GA, Athens/Ben Epps, RNAV (GPS) RWY 20, Orig

Athens, GA, Athens/Ben Epps, RNAV (GPS) RWY 27, Orig

Athens, GA, Athens/Ben Epps, VOR RWY 2, Amdt 11

Athens, GA, Athens/Ben Epps, VOR RWY 27, Amdt 12

Athens, GA, Athens/Ben Epps, VOR/DME RNAV OR GPS RWY 9, Amdt 1, CANCELLED

Athens, GA, Athens/Ben Epps, VOR/DME RNAV OR GPS RWY 20, Amdt 2, CANCELLED

Pella, IA, Pella Muni, RNAV (GPS) RWY 16, Amdt 1

Pella, IA, Pella Muni, RNAV (GPS) RWY 34, Amdt 1

Pella, IA, Pella Muni, Takeoff and Minimums and Obstacle DP, Amdt 1

Sterling-Rockfalls, IL, Whiteside Co-Jos H. Bittorf Fld, NDB RWY 7, Amdt 6

Sterling-Rockfalls, IL, Whiteside Co-Jos H. Bittorf Fld, RNAV (GPS) RWY 7, Orig

Sterling-Rockfalls, IL, Whiteside Co-Jos H. Bittorf Fld, RNAV (GPS) RWY 25, Orig

Sterling-Rockfalls, IL, Whiteside Co-Jos H. Bittorf Fld, Takeoff Minimums and Obstacle DP, Orig

Terre Haute, IN, Terre Haute Intl-Hulman Field, GPS RWY 5, Orig-A, CANCELLED

Terre Haute, IN, Terre Haute Intl-Hulman Field, GPS RWY 23, Orig, CANCELLED

Terre Haute, IN, Terre Haute Intl-Hulman Field, RNAV (GPS) RWY 5, Orig

Terre Haute, IN, Terre Haute Intl-Hulman Field, RNAV (GPS) RWY 23, Orig

Great Bend, KS, Great Bend Muni, NDB RWY 35, Amdt 3

Great Bend, KS, Great Bend Muni, RNAV (GPS) RWY 35, Orig

Great Bend, KS, Great Bend Muni, Takeoff Minimums and Obstacle DP, Orig

Independence, KS, Independence Muni, GPS RWY 17, Orig-A, CANCELLED

Independence, KS, Independence Muni, GPS RWY 35, Orig-B, CANCELLED Independence, KS, Independence Muni, RNAV (GPS) RWY 17, Orig

Independence, KS, Independence Muni, RNAV (GPS) RWY 35, Orig

Independence, KS, Independence Muni, Takeoff Minimums and Obstacle DP, Orig

Salina, KS, Salina Muni, GPS RWY 12, Orig, CANCELLED

Salina, KS, Salina Muni, GPS RWY 30, Orig, CANCELLED

Salina, KS, Salina Muni, RNAV (GPS) RWY 12, Orig

Salina, KS, Salina Muni, RNAV (GPS) RWY 30, Orig

Salina, KS, Salina Muni, Takeoff Minimums and Obstacle DP, Orig

Salina, KS, Salina Muni, VOR RWY 17, Amdt 2

Louisville, KY, Bowman Field, Takeoff Minimums and Obstacle DP, Amdt 3

Monroe, LA, Monroe Rgnl, GPS RWY 4, Orig-A, CANCELLED

Monroe, LA, Monroe Rgnl, GPS RWY 22, Orig, CANCELLED

Monroe, LA, Monroe Rgnl, RNAV (GPS) RWY 4, Orig

Monroe, LA, Monroe Rgnl, RNAV (GPS) RWY 22, Orig

Falmouth, MA, Cape Cod Coast Guard Air Station, COPTER ILS OR LOC/DME RWY 23, Orig

Falmouth, MA, Cape Cod Coast Guard Air Station, ILS OR LOC RWY 23, Orig

Falmouth, MA, Cape Cod Coast Guard Air Station, ILS OR LOC RWY 32, Orig

Falmouth, MA, Cape Cod Coast Guard Air Station, NDB RWY 23, Orig

Falmouth, MA, Cape Cod Coast Guard Air Station, TACAN RWY 5, Orig

Falmouth, MA, Cape Cod Coast Guard Air Station, TACAN RWY 14, Orig

Falmouth, MA, Cape Cod Coast Guard Air Station, TACAN RWY 23, Orig

Falmouth, MA, Cape Cod Coast Guard Air Station, TACAN RWY 32, Orig

Falmouth, MA, Cape Cod Coast Guard Air Station, Takeoff Minimums and Obstacle DP, Orig

Fryeburg, ME, Eastern Slopes Rgnl, Takeoff Minimums and Obstacle DP, Amdt 4

Rockland, ME, Knox County Regional, GPS RWY 31, Orig-C, CANCELLED

Rockland, ME, Knox County Regional, RNAV (GPS) RWY 3, Orig

Rockland, ME, Knox County Regional, RNAV (GPS) RWY 31, Orig

Caro, MI, Tuscola Area, RNAV (GPS) RWY 5, Orig

Caro, MI, Tuscola Area, RNAV (GPS) RWY 23, Orig

Caro, MI, Tuscola Area, Takeoff Minimums and Obstacle DP, Amdt 1

Caro, MI, Tuscola Area, VOR/DME-A, Amdt 5

Flint, MI, Bishop Intl, RNAV (GPS) RWY 27, Amdt 1

Flint, MI, Bishop Intl, RNAV (GPS) Y RWY 27, Orig, CANCELLED

South Haven, MI, South Haven Area Rgnl, RNAV (GPS) RWY 4, Orig

South Haven, MI, South Haven Area Rgnl, RNAV (GPS) RWY 22, Orig

South Haven, MI, South Haven Area Rgnl, VOR RWY 22, Amdt 10

Jacksonville, NC, Albert J. Ellis, ILS OR LOC RWY 5, Amdt 8

Jefferson, NC, Ashe County, GPS RWY 28, Amdt 1, CANCELLED

Jefferson, NC, Ashe County, RNAV (GPS) RWY 28, Orig

Caldwell, NJ, Essex County, LOC RWY 22, Amdt 2

Caldwell, NJ, Essex County, NDB OR GPS RWY 22, Amdt 5B, CANCELLED

Caldwell, NJ, Essex County, RNAV (GPS) RWY 22, Orig

Teterboro, NJ, Teterboro, Takeoff Minimums and Obstacle DP, Amdt 5

Buffalo, NY, Buffalo Airfield, RNAV (GPS) RWY 24, Orig

Buffalo, NY, Buffalo Airfield, Takeoff Minimums and Obstacle DP, Amdt 1

Buffalo, NY, Buffalo Airfield, VOR OR GPS RWY 24, Amdt 6B, CANCELLED

Watertown, NY, Watertown Intl, RNAV (GPS RWY 7, Amdt 1

White Plains, NY, Westchester County, RNAV (GPS) RWY 34, Amdt 2

Cleveland, OH, Cleveland-Hopkins Intl, CONVERGING ILS RWY 24R, Orig

Cleveland, OH, Cleveland-Hopkins Intl, CONVERGING ILS RWY 28, Orig

Cleveland, OH, Cleveland-Hopkins Intl, ILS OR LOC RWY 24L, Amdt 21

Cleveland, OH, Cleveland-Hopkins Intl, ILS OR LOC RWY 28, Amdt 23

Cleveland, OH, Cleveland-Hopkins Intl, ILS OR LOC/DME RWY 24R, ILS RWY 24R (CAT II), ILS RWY 24R (CAT III), Amdt 4

Cleveland, OH, Cleveland-Hopkins Intl, RNAV (GPS) RWY 10, Amdt 1

Cleveland, OH, Cleveland-Hopkins Intl, RNAV (GPS) RWY 24L, Amdt 2

Cleveland, OH, Cleveland-Hopkins Intl, RNAV (GPS) RWY 24R, Amdt 2

Cleveland, OH, Cleveland-Hopkins Intl, RNAV (GPS) RWY 28, Amdt 1

Cleveland, OH, Cleveland-Hopkins Intl, Takeoff Minimums and Obstacle DP, Amdt 15

Willoughby, OH, Willoughby Lost Nation Muni, NDB RWY 10, Amdt 10

Willoughby, OH, Willoughby Lost Nation Muni, NDB OR GPS RWY 28, Amdt 12C, CANCELLED

Willoughby, OH, Willoughby Lost Nation Muni, RNAV (GPS) RWY 5, Orig

Willoughby, OH, Willoughby Lost Nation Muni, RNAV (GPS) RWY 10, Orig

Willoughby, OH, Willoughby Lost Nation Muni, RNAV (GPS) RWY 23, Orig

Willoughby, OH, Willoughby Lost Nation Muni, RNAV (GPS) RWY 28, Orig

Clinton, OK, Clinton-Sherman, Takeoff Minimums and Obstacle DP, Orig

Harrisburg, PA, Capital City, ILS OR LOC RWY 8, Amdt 11

Harrisburg, PA, Capital City, RNAV (GPS) RWY 8, Orig

State College, PA, University Park, VOR-B, Amdt 10

Lebanon, TN, Lebanon Muni, RNAV (GPS) RWY 1, Orig

Lebanon, TN, Lebanon Muni, VOR/DME-A, Amdt 10

Memphis, TN, Memphis Intl, RNAV (GPS) RWY 36R, Amdt 1A

Longview, TX, East Texas Rgnl, ILS OR LOC RWY 13, Amdt 13

Longview, TX, East Texas Rgnl, NDB RWY 13, Amdt 15

Longview, TX, East Texas Rgnl, RNAV (GPS) RWY 13, Amdt 1

Longview, TX, East Texas Rgnl, RNAV (GPS) RWY 18, Amdt 1

Longview, TX, East Texas Rgnl, RNAV (GPS) RWY 31, Amdt 1

Longview, TX, East Texas Rgnl, RNAV (GPS) RWY 36, Amdt 1

Longview, TX, East Texas Rgnl, Takeoff Minimums and Obstacle DP, Amdt 1

Longview, TX, East Texas Rgnl, VOR/DME OR TACAN RWY 13, Amdt 2

McAllen, TX, McAllen Miller Intl, ILS OR LOC RWY 31, Orig

McAllen, TX, McAllen Miller Intl, LOC BC RWY 31, Amdt 9C, CANCELLED

McAllen, TX, McAllen Miller Intl, RNAV (GPS) RWY 31, Amdt 1

McAllen, TX, McAllen Miller Intl, Takeoff and Minimums and Obstacle DP, Amdt 1

Everett, WA, Snohomish County (Paine Fld), ILS OR LOC/DME RWY 16R, Amdt 21

[FR Doc. E8-25511 Filed 11-7-08; 8:45 am]

BILLING CODE 4910-13-P